FEDERAL DEPOSIT INSURANCE CORPORATION

Agency Information Collection Activities: Proposed Collection; Comment Request

AGENCY: Federal Deposit Insurance Corporation.

ACTION: Notice and request for comment.

SUMMARY: The FDIC, as part of its continuing effort to reduce paperwork and respondent burden, invites the general public and other Federal agencies to take this opportunity to comment on proposed and/or continuing information collections, as required by the Paperwork Reduction Act of 1995 (44 U.S.C. chapter 35). Currently, the FDIC is soliciting comments concerning an information collection titled “Application for Student Educational Employment Program.”

DATES: Comments must be submitted on or before April 23, 2004.

ADDRESSES: Interested parties are invited to submit written comments to Leneta G. Gregorie, Counsel, (202) 898-3719, Legal Division, Federal Deposit Insurance Corporation, 550 17th Street, NW., Washington, DC 20429. All comments should refer to “Application for Student Educational Employment Program.” Comments may be hand-delivered to the guard station at the rear of the 17th Street Building (located on F Street), on business days between 7 a.m. and 5 p.m. (Fax number: (202) 898-3838; email: comments @ fdic.gov.)

A copy of the comments may also be submitted to the OMB desk officer for the FDIC: Joseph F. Lackey, Jr., Office of Information and Regulatory Affairs, Office of Management and Budget, New Executive Office Building, Room 10236, Washington, DC 20503.

FOR FURTHER INFORMATION CONTACT: Leneta G. Gregorie, Counsel, Legal Division, at (202) 898-3719.

SUPPLEMENTARY INFORMATION: Proposal to establish the following new collection of information:

Title: Application for Student Educational Employment Program.

OMB Number: New collection.

Frequency of Response: Occasional.

Affected Public: Students seeking employment with the FDIC under the Student Educational Employment Program.

Estimated Number of Respondents: 1,500.

Estimated Time per Response: 0.33 hour.

Estimated Total Annual Burden: 500 hours.

General Description of Collection: The collection will provide the FDIC with a means of gathering information from program applicants to determine whether they meet the government-wide criteria established by OPM for participation in the program, as well as the additional criteria established by the FDIC in its implementation of the program.

Request for Comment

Comments are invited on: (a) Whether the collection of information is necessary for the proper performance of the FDIC's functions, including whether the information has practical utility; (b) the accuracy of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's request to OMB for approval of this collection. All comments will become a matter of public record.

Dated in Washington, DC this 17th day of February, 2004.
Federal Deposit Insurance Corporation.
Robert E. Feldman,
Executive Secretary.

[FR Doc. 04-3797 Filed 2-20-04; 8:45 am]

BILLING CODE 6714-01-P